SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before June 19, 2000.

ADDRESSES: Send all comments regarding whether this information collection is necessary for the proper performance of the function of the agency, whether the burden estimate is accurate, and if there are ways to minimize the estimated burden and enhance the quality of the collection, to Kenneth D. Simonson, Senior Economic Advisor, Office of Advocacy, Small Business Administration, 409 3rd Street, SW, Suite 7800, Washington, DC 20416.

FOR FURTHER INFORMATION CONTACT: Kenneth D. Simonson, Senior Economic Advisor, 202-205-6973 or Curtis B. Rich, Management Analyst, 202-205-7030.

SUPPLEMENTARY INFORMATION: Title: “Value of Worker Training Programs to Small Business”.

Form No: N/A.

Description of Respondents: Small and Large Businesses.

Annual Responses: 2,400.

Annual Burden: 1,244.

Jacqueline White,
Chief, Administrative Information Branch.

[FR Doc. 00-9852 Filed 4-19-00; 8:45 am]

BILLING CODE 8025-01-P